DEPARTMENT OF HEALTH AND HUMAN SERVICES

Administration for Children and Families

Submission for OMB Review; Information Comparison With Insurance Data (OMB #0970-0342)

AGENCY: Office of Child Support Enforcement, Administration for Children and Families, HHS.

ACTION: Request for Public Comment.

SUMMARY: The Administration for Children and Families' (ACF) Office of Child Support Enforcement (OCSE) is requesting a 3-year extension of the currently approved Information Comparison with Insurance Data (OMB #0970-0342; Expires 1/31/2021).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Deficit Reduction Act of 2005 amended Section 452 of the Social Security Act to authorize the Secretary, through the Federal Parent Locator Service (FPLS), to conduct comparisons of information concerning individuals owing past-due child support with information maintained by insurers (or their agents) concerning insurance claims, settlements, awards, and payments. The two options to participate in the Information Comparison with Insurance Data program are (1) insurers submit information concerning claims, settlements, awards, and payments to the federal OCSE. OCSE compares it to information pertaining to parents who owe past-due support. (2) OCSE will send a file containing information about parents who owe past-due support to the insurer, or their agent, to compare with their claims, settlements, awards, and payments. The insurer or their agent sends any resulting insurance data matches to OCSE. On a daily basis, OCSE sends the results of the insurance data match in an “Insurance Match Response Record” to child support agencies responsible for collecting past-due support. The child support agencies use the insurance data matches to collect past-due support from the insurance proceeds.

Respondents: Insurers or their agents, including the U.S. Department of Labor and state agencies administering workers' compensation programs, and the Insurance Services Office.

Annual Burden Estimates
Instrument | Total number of respondents annually | Total number of annual responses per respondent | Average annual burden hours per response | Total/annual burden hours
Insurance Match File: Monthly, Reporting Electronically | 26 | 12 | 0.083 | 25.90
Insurance Match File: Weekly, Reporting Electronically | 9 | 52 | 0.083 | 38.84
Insurance Match File: Daily, Reporting Electronically | 2 | 251 | 0.083 | 41.67
Match File: Daily, Reporting Manually | 108 | 251 | 0.1 | 2,710.80

Estimated Total Annual Burden Hours: 2,817.21.

Authority: 42 U.S.C. 652(a)(9), which requires OCSE to operate the FPLS established by 42 U.S.C. 653(a)(1) and 42 U.S.C. 652(m), which authorizes OCSE, through the FPLS, to compare information concerning individuals owing past-due support with information maintained by insurers (or their agents) concerning insurance claims, settlements, awards, and payments, and to furnish information resulting from the data matches to the state child support agencies responsible for collecting child support from the individuals.

Mary B. Jones,
ACF/OPRE Certifying Officer.

[FR Doc. 2020-24141 Filed 10-29-20; 8:45 am]

BILLING CODE 4184-41-P